DEPARTMENT OF THE INTERIOR

Bureau of Land Management

[LLCAD01500 L13400000 DS0000]

Notice of Availability of the Draft Environmental Impact Statement and Draft Proposed California Desert Conservation Area Plan Amendment for the Haiwee Geothermal Leasing Area in Inyo County, CA

AGENCY: Bureau of Land Management, Interior.

ACTION: Notice of Availability.

SUMMARY: In accordance with the National Environmental Policy Act of 1969, as amended, and the Federal Land Policy and Management Act of 1976, as amended, the Bureau of Land Management (BLM) has prepared a Draft Proposed California Desert Conservation Area (CDCA) Plan Amendment and a Draft Environmental Impact Statement (EIS) for the Haiwee Geothermal Leasing Area (HGLA), Inyo County, California, and by this notice is announcing the opening of the comment period.

DATES: To ensure that comments will be considered, the BLM must receive written comments on the Draft Proposed CDCA Plan Amendment and Draft EIS within 90 days following the date the Environmental Protection Agency publishes its Notice of Availability in the Federal Register. The BLM will announce future meetings or hearings and any other public involvement activities at least 15 days in advance through public notices, media releases, and/or mailings.

ADDRESSES: You may submit comments related to the Haiwee Geothermal Leasing Area Draft EIS/Draft Proposed CDCA Plan Amendment by any of the following methods:

• Web site: cahaiwee@blm.gov.

• Email: Peter_Godfrey@blm.gov.

• Fax: 951-697-5299.

• Mail: BLM, California Desert District Office, 22835 Calle San Juan de Los Lagos, Moreno Valley, California 92553, Attn: Peter Godfrey, Project Manager.

Copies of the Draft EIS and Draft Proposed CDCA Plan Amendment for the HGLA are available in the Ridgecrest Field Office at 300 S. Richmond Road, Ridgecrest, California 93555.

FOR FURTHER INFORMATION CONTACT: Peter Godfrey, Project Manager, telephone (951) 697-5385; address: 22835 Calle San Juan de Los Lagos, Moreno Valley, California 92553; email: Peter_Godfrey@blm.gov. Persons who use a telecommunications device for the deaf (TDD) may call the Federal Information Relay Service (FIRS) at (800) 877-8339 to contact the above individual during normal business hours. The FIRS is available 24 hours a day, 7 days a week, to leave a message or question with the above individual. You will receive a reply during normal business hours.

SUPPLEMENTARY INFORMATION: The Draft EIS analyzes the potential impacts of opening public lands to geothermal leasing and potential development of federally owned geothermal resources in the HGLA of southwestern Inyo County, California, east of the Inyo National Forest, west of the China Lake Naval Weapons Station, and south of the South Haiwee Reservoir. The HGLA consists of an estimated 22,805 acres of BLM-administered federal mineral estate that would be considered for competitive geothermal leasing under 43 CFR part 3200. An updated inventory of lands with wilderness characteristics determined that lands with wilderness characteristics are not found within the HGLA. The proposed action is to amend the CDCA Plan to identify public lands as being suitable for geothermal leasing and allow the project area to be leased under the authority of the Geothermal Steam Act of 1970, as amended (30 U.S.C. 1001 et seq.), and to approve three pending non-competitive geothermal leases applications. The purpose and need for amending the CDCA Plan is to establish a management framework for appropriate exploration and development of geothermal resources, based upon evaluation of the various land use, and environmental resources within the HGLA. The BLM's purpose and need for approving the pending lease applications, for approximately 4,460 acres of Federal mineral estate, is to facilitate appropriate exploration and development of geothermal resources in the HGLA, consistent with the BLM's management of other important resources in the HGLA.

Alternatives thus far identified for evaluation in the EIS include:

(a) Open the entire HGLA to geothermal exploration and development, with restrictions on water use and authorize the pending leases;

(b) Close the HGLA to geothermal exploration and development and deny the pending leases;

(c) Open the HGLA to geothermal exploration and development with additional specific stipulations and restrictions regarding surface occupancy and water use and authorize the pending leases;

(d) Close sensitive resource areas within the HGLA to geothermal exploration and development, leave open all other areas, and authorize the pending leases; and

(e) The no action alternative, which would not identify the HGLA as suitable or unsuitable for geothermal exploration, development, and utilization, and would deny the pending leases.

The BLM published a Notice of Intent to prepare an EIS on September 11, 2009, in the Federal Register [74 FR 46786]. Publication of the Notice of Intent initiated a public scoping period, which included four public scoping meetings. Through the public scoping process the BLM received 14 comment letters and numerous verbal comments. Comments received through the scoping process and consultation carried out pursuant to Section 106 of the National Historic Preservation Act and other Federal mandates, identified the following issues and concerns to be considered when developing the EIS: The BLM's purpose and need, alternatives development, air quality, geothermal resources, hazardous materials, Native American concerns, potential land use conflicts with agriculture and recreation, public health and safety, social and economic issues, transportation, noise, cumulative impacts, cultural resources, wildlife, visual resources, and surface or groundwater resources. Lands with wilderness characteristics are not present within the planning area.

The BLM, in compliance with Federal Lands Policy and Management Act of 1976, National Environmental Policy Act of 1969, and all other relevant Federal laws, Executive orders, and management policies of the BLM, used an interdisciplinary approach in development of the plans, working collaboratively, in order to consider the variety of resource issues and concerns identified.

Please note that public comments and information submitted including names, street addresses, and email addresses of persons who submit comments will be available for public review and disclosure at the above address during regular business hours (8 a.m. to 4 p.m.), Monday through Friday, except holidays.

Before including your address, phone number, email address, or other personal identifying information in your comment, you should be aware that your entire comment—including your personal identifying information—may be made publicly available at any time. While you can ask us in your comment to withhold your personal identifying information from public review, we cannot guarantee that we will be able to do so.

Authority: 40 CFR 1506.6, 1506.10, and 43 CFR 1610.2.

Cynthia Staszak,
Associate Deputy State Director.

[FR Doc. 2012-11290 Filed 5-7-12; 4:15 pm]

BILLING CODE 4310-40-P